FEDERAL RESERVE SYSTEM

Notice of Meeting of the Consumer Advisory Council

The Consumer Advisory Council will meet on Thursday, October 21, 2010. The meeting, which will be open to public observation, will take place at the Federal Reserve Board's offices in Washington, DC, in Dining Room E on the Terrace Level of the Martin Building. For security purposes, anyone planning to attend the meeting should register no later than Tuesday, October 19, by completing the form found online at: https://www.federalreserve.gov/secure/forms/cacregistration.cfm.

Attendees must present photo identification to enter the building and should allow sufficient time for security processing.

The meeting will begin at 9 a.m. and is expected to conclude at 12:15 p.m. The Martin Building is located on C Street, NW., between 20th and 21st Streets.

The Council's function is to advise the Board on the exercise of the Board's responsibilities under various consumer financial services laws and on other matters on which the Board seeks its advice. Time permitting, the Council will discuss the following topics:

• Proposed Rules Regarding Home Mortgage Transactions: Members will discuss the Board's proposed rules to amend Regulation Z, which implements the Truth in Lending Act, to enhance consumer protection and improve disclosures for reverse mortgage transactions and other home mortgage loans.

• Home Mortgage Disclosure Act (HMDA): In the context of the Board's recent hearings on potential modifications to Regulation C, which implements HMDA, members will discuss the advantages and disadvantages of suggested changes to Regulation C, addressing the importance or utility of particular information in light of the purposes of HMDA and the burdens and possible privacy risks associated with collecting and reporting that information.

• Community Reinvestment Act (CRA): Members will discuss key insights from the recent hearings on modernizing the regulations that implement the CRA, considering issues such as how to update the regulations to reflect changes in the financial services industry, changes in how banking services are delivered to consumers today, and current housing and community development needs.

• Foreclosure issues: Members will discuss loss-mitigation efforts, including the Administration's Making Home Affordable program, neighborhood stabilization initiatives and challenges, and other issues related to foreclosures.

Reports by committees and other matters initiated by Council members also may be discussed.

Persons wishing to submit views to the Council on any of the above topics may do so by sending written statements to Jennifer Kerslake, Secretary of the Consumer Advisory Council, Division of Consumer and Community Affairs, Board of Governors of the Federal Reserve System, Washington, DC 20551. Information about this meeting may be obtained from Ms. Kerslake at 202-452-6470.

Board of Governors of the Federal Reserve System, October 8, 2010.
Jennifer J. Johnson,
Secretary of the Board.

[FR Doc. 2010-25817 Filed 10-13-10; 8:45 am]

BILLING CODE P